DEPARTMENT OF AGRICULTURE

Forest Service

“Cayuga Project”, Chequamegon-Nicolet National Forest; WI

AGENCY: Forest Service, USDA.

ACTION: Notice of intent to prepare a supplement to the environmental impact statement.

SUMMARY: The Forest intends to supplement the May 2003 “Cayuga Project” Final Environmental Impact Statement. The supplement would clarify and add more detail to the cumulative effects analysis regarding certain Regional Forester Sensitive Species that may be affected by the actions considered in the original Environmental Impact Statement.

DATES: Comments concerning the scope of the analysis must be received by May 15, 2006 in order to be fully considered in preparing this supplemental statement. The draft supplemental environmental impact statement is expected July, 2006 and the final supplemental environmental impact statement is expected September, 2006.

ADDRESSES: Send written comments to Anne F. Archie, Forest Supervisor, Chequamegon-Nicolet National Forest, 1170 4th Avenue S, Park Galls, WI 54552.

FOR FURTHER INFORMATION CONTACT: Brian Quinn, Forest Environmental Coordinator, (see address above).

SUPPLEMENTARY INFORMATION: Purpose and Need for Action: The purpose of the Cayuga Project is to move the structure and cover of the existing forest closer to desired conditions described in the 2004 Nicolet National Forest Plan. A concurrent purpose is to eliminate unneeded roads and manage needed roads in a more efficient and effective way.

Proposed Action: The major actions would use commercial timber harvest, non-commercial vegetation management, road closure and road decommissioning to achieve the purpose and need.

Responsible Official: Anne F. Archie, Forest Supervisor, Chequamegon-Nicolet National Forest, is the responsible official.

Nature of Decision To Be Made: The decision will be limited to determining whether to revise, amend or reassert; the original Cayuga Record of Decision (May 7, 2003).

Scoping Process: A scoping package will be mailed to all parties who previously were mailed the original draft environmental impact statement, and to those who request a copy.

Comment Requested: This notice of intent initiates the scoping process which guides the development of the supplemental environmental impact statement. Specifically, the supplement will fully consider cumulative effects of timber harvest to goshawk, red-shouldered hawk, American marten, spruce grouse and black-backed woodpecker that occur in the Cayuga project area.

Early Notice of Importance of Public Participation in Subsequent Environmental Review: A draft supplement to the environmental impact statement will be prepared for comment. The comment period on the draft statement will be 45 days from the date the Environmental Protection Agency publishes the notice of availability in the Federal Register. The Forest Service believes, at this early stage, it is important to give reviewers notice of several court rulings related to public participation in the environmental review process.

First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft supplemental environmental impact statement stage but that are not raised until after completion of the final supplemental environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and address of those who comment, will be considered part of the public record on this proposal and will be available for public inspection.

Authority: 40 CFR 151.7 and 1508.22; Forest Service Handbook 1909.15, Section 20

Dated: March 16, 2006.
Anne F. Archie,
Forest Supervisor, Chequamegon-Nicolet National Forest.

[FR Doc. 06-2796 Filed 3-22-06; 8:45am]

BILLING CODE 3410-11-M